DEPARTMENT OF VETERANS AFFAIRS

[OMB Control No. 2900-0593]

Proposed Information Collection (Acquisition Regulation (VAAR) Provision 852.214-70, Caution to Bidder—Bid Envelopes) Activity: Comment Request

AGENCY: Office of Management, Department of Veterans Affairs.

ACTION: Notice.

SUMMARY: The Office of Management (OM), Department of Veterans Affairs (VA), is announcing an opportunity for public comment on the proposed collection of certain information by the agency. Under the Paperwork Reduction Act (PRA) of 1995, Federal agencies are required to publish notice in the Federal Register concerning each proposed collection of information, including each extension of a currently approved collection, and allow 60 days for public comment in response to the notice. This notice describes the nature of the information collection and its expected cost and burden and includes the actual data collection instrument.

DATES: Written comments and recommendations on the proposed collection of information should be received on or before August 22, 2016.

ADDRESSES: Submit written comments on the collection of information through the Federal Docket Management System (FDMS) at www.Regulations.gov; or to Ricky Clark, Office of Acquisition and Logistics (003A2A), Department of Veterans Affairs, 810 Vermont Avenue NW., Washington, DC 20420; or email Ricky.clark@va.gov. Please refer to “OMB Control No. 2900-0593” in any correspondence. During the comment period, comments may be viewed online through FDMS.

FOR FURTHER INFORMATION CONTACT: Ricky Clark at (202) 632-5400, Fax (202) 343-1434.

SUPPLEMENTARY INFORMATION: Under the PRA of 1995 (Pub. L. 104-13; 44 U.S.C. 3501-3521), Federal agencies must obtain approval from the Office of Management and Budget (OMB) for each collection of information they conduct or sponsor. This request for comment is being made pursuant to Section 3506(c)(2)(A) of the PRA.

Titles: Veterans Affairs Acquisition Regulation (VAAR) Provision 852.214-70, Caution to Bidder—Bid Envelopes.

OMB Control Number: 2900-0593.

Type of Review: Extension without change of a previously approved collection.

Abstract: VAAR provision 852.214-70, advises bidders that it is their responsibility to ensure that their bid price cannot be ascertained by anyone prior to bid opening. It also advises bidders to identify their bids by showing the invitation number and bid opening date on the outside of the bid envelope. The Government often furnishes a blank bid envelope or a label for use by bidders/offers to identify their bids. The bidder is advised to fill in the required information. This information requested from bidders is needed by the Government to identify bid envelopes from other mail or packages received without having to open the envelopes or packages and possibly exposing bid prices before bid opening. The information will be used to identify which parcels or envelopes are bids and which are other routine mail. The information is also needed to help ensure that bids are delivered to the proper bid opening room on time and prior to bid opening. The contracting officer will use the information to evaluate whether or not the item offered meets the specification requirements.

An agency may not conduct or sponsor, and a person is not required to respond to a collection of information unless it displays a currently valid OMB control number.

Affected Public: Business or other for-profit and not-for-profit institutions.

Estimated Annual Burden: 2 hours.

Estimated Average Burden per Respondent: 10 seconds.

Frequency of Response: On occasion.

Estimated Number of Respondents: 640.

By direction of the Secretary.
Cynthia Harvey-Pryor,
Program Specialist, Enterprise Records Management Service, Office of Privacy and Records Management, Department of Veterans Affairs.

[FR Doc. 2016-14687 Filed 6-21-16; 8:45 am]

BILLING CODE 8320-01-P